DEPARTMENT OF THE INTERIOR

Bureau of Land Management

[LLID100000-L10200000-PH0000]

Notice of Public Meeting, Idaho Falls District Resource Advisory Council Meeting

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Idaho Falls District Resource Advisory Council (RAC), will meet as indicated below.

DATES: The Idaho Falls District RAC will meet in Idaho Falls, Idaho on September 21-22, 2010 for a two day meeting at the Upper Snake Field Office located at 1405 Hollipark Drive, Idaho Falls, Idaho 83401. The first day will begin at 8 a.m. and adjourn at 4:30 p.m. The second day will begin at 8 a.m. and adjourn at 3:30 p.m. Members of the public are invited to attend. A comment period will be held following the introductions at 8 a.m. All meetings are open to the public.

SUPPLEMENTARY INFORMATION: The 15-member Council advises the Secretary of the Interior, through the Bureau of Land Management, on a variety of planning and management issues associated with public land management in the BLM Idaho Falls District (IFD), which covers eastern Idaho.

Items on the agenda will include an overview of the current issues affecting the District and Field Offices, review and approval of past meeting minutes, a public comment period, discussion on the Salmon Travel Management Plan (TMP) and a presentation of the Champagne Creek reclamation issues. Agenda items and location may be modified due to changing circumstances. Following the presentations and overviews, tours will be conducted throughout the Upper Snake Field Office area to discuss policy issues affecting the region such as the Jefferson Fire rehabilitation efforts, Egin Lake Recreation area and Sand Dunes management, and the Land and Water Conservation Fund (LWCF) and the critical role it plays in restoring and retaining critical habitat along the South Fork of the Snake River.

All meetings are open to the public. The public may present written comments to the Council. Each formal Council meeting will have time allocated for hearing public comments. Depending on the number of persons wishing to comment and time available, the time for individual oral comments may be limited. Individuals who plan to attend and need special assistance, such as sign language interpretation, tour transportation or other reasonable accommodations, should contact the BLM as provided below.

FOR FURTHER INFORMATION CONTACT: Sarah Wheeler, RAC Coordinator, Idaho Falls District, 1405 Hollipark Dr., Idaho Falls, ID 83401. Telephone: (208) 524-7550. E-mail: Sarah_Wheeler@blm.gov.

Joe Kraayenbrink,
BLM District Manager.

[FR Doc. 2010-20145 Filed 8-13-10; 8:45 am]

BILLING CODE 4310-GG-P